ENVIRONMENTAL PROTECTION AGENCY

[EPA-HQ-OAR-2019-0316; FRL-9997-91-OAR]

Notice of Public Meeting and Proposed List of Potential Peer Reviewers; Potential Approaches for Characterizing the Estimated Benefits of Reducing PM2.5 at Low Concentrations

AGENCY: Environmental Protection Agency (EPA).

ACTION: Notice.

SUMMARY: The Environmental Protection Agency (EPA) is requesting comment on the proposed list of candidate peer reviewers for the independent, contractor-managed, external peer review of the draft document titled “Potential Approaches for Characterizing the Estimated Benefits of Reducing PM2.5 at Low Concentrations.” This notice provides the names and professional affiliations of the proposed peer reviewers. The public is requested to provide relevant information or documentation on the candidates who are being evaluated by the external peer review contractor, ICF. ICF will consider the public comments on the proposed list of peer reviewers and will select the final peer reviewers who, collectively, best provide expertise spanning the multiple subject matter areas covered by the draft document and, to the extent feasible, best provide a balance of perspectives according to EPA peer review guidance. This notice also provides the public peer review meeting date as well as EPA's website that will provide details about the meeting location and how to register to attend the meeting either in person or remotely.

DATES: Comments: The comment period on the proposed peer reviewers begins on September 3, 2019 and ends on September 24, 2019.

Meeting: A one-day panel meeting will be held on October 21, 2019, from approximately 9:00 a.m. to 5:00 p.m. Eastern Time at the U.S. Environmental Protection Agency, 109 T.W. Alexander Drive, Research Triangle Park, North Carolina. Please refer to the SUPPLEMENTARY INFORMATION section for additional information on the panel meeting.

ADDRESSES: Submit your comments, identified by docket ID number EPA-HQ-OAR-2019-0316, by any of the following methods:

• Federal eRulemaking Portal: https://www.regulations.gov (our preferred method). Follow the online instructions for submitting comments.

• Email: a-and-r-Docket@epa.gov. Include the Docket ID No. EPA-HQ-OAR-2019-0316 in the subject line of the message.

• Fax: (202) 566-9744. Include the Docket ID No. EPA-HQ-OAR-2019-0316 in the subject line of the message.

• Mail: U.S. Environmental Protection Agency, EPA Docket Center, Office of Air and Radiation Docket, Mail Code 28221T, 1200 Pennsylvania Avenue NW, Washington, DC 20460.

• Hand Delivery/Courier: EPA Docket Center, WJC West Building, Room 3334, 1301 Constitution Avenue NW, Washington, DC 20004. The Docket Center's hours of operations are 8:30 a.m.-4:30 p.m., Monday-Friday (except Federal Holidays).

Instructions: All comments received must include the Docket ID No. for this notice. Comments received may be posted without change to https://www.regulations.gov, including any personal information provided. For detailed instructions on sending comments, see the SUPPLEMENTARY INFORMATION section of this document.

A one-day panel meeting will be held on October 21, 2019, at the U.S. Environmental Protection Agency, 109 T.W. Alexander Drive, Research Triangle Park, North Carolina 27711. Specific details regarding the meeting and registration for in-person or remote attendance will be posted on EPA's website (https://www.epa.gov/economic-and-cost-analysis-air-pollution-regulations/PM_Uncertainty).

Because the panel meeting is being held at a U.S. government facility, individuals planning to attend the meeting should be prepared to show valid picture identification to the security staff in order to gain access to the meeting room. Please note that the REAL ID Act, passed by Congress in 2005, established new requirements for entering federal facilities. For purposes of the REAL ID Act, EPA will accept government-issued IDs, including drivers' licenses, from the District of Columbia and all states and territories except from American Samoa. If your identification is issued by American Samoa, you must present an additional form of identification to enter the federal building where the meeting will be held. Acceptable alternative forms of identification include: federal employee badges, passports, enhanced driver's licenses, and military identification cards. For additional information for the status of your state regarding REAL ID, go to: https://www.dhs.gov/real-id-enforcement-brieffrequently-asked-questions. Any objects brought into the building need to fit through the security screening system, such as a purse, laptop bag, or small backpack. Demonstrations will not be allowed on federal property for security reasons.

FOR FURTHER INFORMATION CONTACT: Neal Fann, Health and Environmental Impacts, Office of Air Quality Planning and Standards (C-439-02), U.S. Environmental Protection Agency, 109 T.W. Alexander Drive, Research Triangle Park, NC 27711. Phone: (919) 541-0209, Fax: (919) 541-5315, Email: Fann.Neal@epa.gov.

SUPPLEMENTARY INFORMATION:

I. General Information

Submit your comments, identified by Docket ID No. EPA-HQ-OAR-2019-0316, at https://www.regulations.gov (our preferred method), or the other methods identified in the ADDRESSES section. Once submitted, comments cannot be edited or removed from the docket. The EPA may publish any submission received to its public docket. Do not submit electronically any information you consider to be Confidential Business Information (CBI) or other information whose disclosure is restricted by statute. Multimedia submissions (audio, video, etc.) must be accompanied by a written submission. The written submission is considered the official submission and should include discussion of all points you wish to make. The EPA will generally not consider submissions or submission content located outside of the primary submission (i.e., on the web, cloud, or other file sharing system). For additional submission methods, the full EPA public comment policy, information about CBI or multimedia submissions, and general guidance on making effective comments, please visit https://www.epa.gov/dockets/commenting-epa-dockets.

II. Background

The EPA uses evidence from long-term exposure cohort studies to estimate the number of PM2.5-related premature deaths and morbidity effects in its air pollution benefits analyses. Generally, EPA quantifies effects for the full distribution of ambient PM2.5 concentrations, including at concentrations below the lowest measured levels (LML) of these studies; this reflects the current scientific evidence, which does not find a threshold in the concentration-response relationship. However, because of the absence of data at such low concentrations, there is greater uncertainty about the likelihood of health effects, including premature death. The degree of uncertainty associated with premature deaths estimated at these lower levels has over time taken on greater prominence, due in part to decreasing ambient PM2.5 concentrations, the public health importance of PM2.5-associated mortality, and the magnitude of the economic value of the effect. As a means of improving its methods for quantifying and characterizing effects estimated at these lower PM2.5 levels, the Agency is developing and evaluating potential alternative approaches for estimating these effects. Potential approaches are described in the EPA draft report that will be made available at https://www.epa.gov/economic-and-cost-analysis-air-pollution-regulations/PM_Uncertainty. This report details new techniques for deriving information regarding uncertainty at low PM2.5 concentrations using data available from the peer-reviewed published epidemiology literature; demonstrates the application of these techniques in an example PM2.5 air pollution benefits assessment; discusses the strengths and weaknesses of each technique; and compares these techniques against alternatives including the use of lowest measured level cut-points or the use of meta-analytic approaches designed to characterize the magnitude of the PM mortality effect across a broader array of concentrations.

The EPA identified the “Potential Approaches for Characterizing the Estimated Benefits of Reducing PM2.5 at Low Concentrations” as a Highly Influential Scientific Assessment, and according to the Agency's Science and Technology Policy Council, Peer Review Handbook (Fourth Edition, EPA/100/B-15/001, 2015) (Agency's Peer Review Handbook), is required to conduct an external peer review of that report and supplemental files. The reviewers are asked to assess the accuracy, content, and interpretation of findings ensuring that they are factual and scientifically sound. The review shall generate comments from the individual expert reviewers.

The draft report will be made available on the project website approximately 30 days prior to the meeting (https://www.epa.gov/economic-and-cost-analysis-air-pollution-regulations/PM_Uncertainty). The Agency will periodically update this website to include details on the public meeting and peer reviewer comments on the technical report.

III. Process of Obtaining Candidate Reviewers

Consistent with guidelines for the peer review of Highly Influential Scientific Assessments, EPA tasked ICF to assemble approximately nine scientific experts to evaluate the draft report cited in this notice. As part of the peer-review process, a public nomination period was held from June 13, 2019, to July 5, 2019, during which members of the public were able to nominate scientific experts with knowledge and expertise in one or more of the following areas:

A. Epidemiology

B. Biostatistics

C. Risk Assessment

D. Decision and Uncertainty

E. Economics

ICF also conducted an independent search for scientific experts to augment the list of publically nominated candidates. In total, ICF evaluated the 58 candidates nominated during the public nomination period and ICF identified 12 additional candidates.

• Selection process. ICF considered and screened all candidates against the selection criteria described in the Federal Register notice of June 13, 2019 (84 FR 27632) (FRL-9995-4-OAR) (https://www.regulations.gov/document?D=EPA-HQ-OAR-2019-0316-0001), which included having demonstrated expertise in the areas described, being free of any conflict of interest, being free of appearance of bias, and being available to participate in-person in a one-day peer review meeting in Research Triangle Park, NC, on October 21, 2019. Following the screening process, ICF narrowed the list of potential reviewers to 16 proposed candidates. This notice solicits comments on the proposed list of 16 candidates. The public is requested to provide relevant information or documentation on the candidates who are being evaluated by ICF. ICF will consider the public comments on the proposed list of peer reviewers and will post the final list of peer reviewers on EPA's website (https://www.epa.gov/economic-and-cost-analysis-air-pollution-regulations/PM_Uncertainty).

• Responsibilities of Peer Reviewers. Peer reviewers will be charged with evaluating and preparing written comments on the draft report. Specifically, reviewers will provide general comments, their overall impressions of the draft report, and respond to the peer review charge questions.

Following the peer review meeting, ICF will provide a peer review summary report to EPA containing the comments and recommendations from the peer reviewers. The final peer review report will also be made available to the public on EPA's website (https://www.epa.gov/economic-and-cost-analysis-air-pollution-regulations/PM_Uncertainty). In preparing the final analytical support document, EPA will consider ICF's peer review report, which will include comments and recommendations from the external peer review meeting.

IV. Registration for Public Panel Meeting

Registration can be made via EPA's website (https://www.epa.gov/economic-and-cost-analysis-air-pollution-regulations/PM_Uncertainty) for the one-day panel meeting to be held on October 21, 2019, at the U.S. Environmental Protection Agency, 109 T.W. Alexander Drive, Research Triangle Park, NC 27711. Specific details regarding the meeting location and registration for in-person or remote attendance will be posted on EPA's website (https://www.epa.gov/economic-and-cost-analysis-air-pollution-regulations/PM_Uncertainty).

Special Accommodations: For information on access or services for individuals with disabilities, and to request accommodation of a disability, please contact the Designated Federal Official (DFO) listed under FOR FURTHER INFORMATION CONTACT at least 10 days prior to the meeting to give EPA as much time as possible to process your request.

V. Proposed List of Peer Reviewers

The EPA asks that no individual or organization contact in any way its contractor (ICF) or the subcontractor panel members regarding the subject of the peer review meeting, send contractor written materials regarding the subject of the meeting, or make any offers or requests to any of them that appear to be linked to their participation in the peer review. The contractor will direct the panel members to report any such contacts, who will take appropriate action in consultation with EPA to ensure the independence and impartiality of the peer review.

Following are the names and professional affiliations of the current candidates being considered for the external peer review of the draft report. A biosketch or current curriculum vitae for the proposed peer reviewers will be posted in the docket (docket ID number EPA-HQ-OAR-2019-0316). ICF will select peer reviewers who, collectively, best provide expertise spanning the multiple required areas of expertise listed in Section III and, to the extent feasible, best provide a balance of perspectives.

A. Mark Dickie, Ph.D., Professor, Department of Economics, University of Central Florida

B. James Hammitt, Ph.D., Professor, Economics and Decision Sciences, Harvard University; Director of Harvard Center for Risk Analysis

C. Max Henrion, Ph.D., CEO and Co-founder, Lumina Decision Systems, Inc.

D. Marianthi-Anna Kioumourtzoglou, Sc.D., Assistant Professor, Department of Environmental Health Sciences, Columbia University School of Public Health

E. Jenna R. Krall, Ph.D., Assistant Professor, Department of Global and Community Health, George Mason University

F. Alan Krupnick, Ph.D., Senior Fellow, Resources for the Future

G. Jonathan I. Levy, Sc.D., Professor, School of Public Health, Boston University

H. Maria C. Mirabelli, Ph.D., Adjunct Associate Professor, Emory University

I. John Molitor, Ph.D., Associate Professor, College of Public Health and Human Sciences, Oregon State University

J. Lorenz R. Rhomberg, Ph.D., A.T.S., Principal, Gradient

K. V. Kerry Smith, Ph.D., Emeritus Regents Professor and Emeritus University Professor of Economics, Department of Economics, W. P. Carey School of Business, Arizona State University

L. George Thurston, Sc.D., Professsor, Department of Environmental Medicine, New York University School of Medicine

M. Roel Vermeulen, Ph.D., Associate Professor, Environmental Epidemiology, Institute for Risk Assessment Sciences (IRAS), Utrecht University, The Netherlands

N. Thomas Wallsten, Ph.D., Emeritus Professor, Department of Psychology, University of Maryland

O. J. Jason West, Ph.D., Professor, Department of Environmental Sciences and Engineering, UNC Chapel Hill School of Global Public Health

P. Corwin Zigler, Ph.D., Associate Professor, Department of Statistics and Data Science, University of Texas

Dated: August 23, 2019.
Panagiotis Tsirigotis,
Director, Office of Air Quality Planning and Standards.

[FR Doc. 2019-18945 Filed 8-30-19; 8:45 am]

BILLING CODE 6560-50-P